ENVIRONMENTAL PROTECTION AGENCY

[FRL-6538-3]

Notice of Proposed Prospective Purchaser Agreement Pursuant to the Comprehensive Environmental Response, Compensation and Liability Act of 1980, as Amended by the Superfund Amendments and Reauthorization Act

AGENCY: Environmental Protection Agency (EPA).

ACTION: Notice; request for public comment.

SUMMARY: In accordance with the Comprehensive Environmental Response, Compensation, and Liability Act of 1980, as amended by the Superfund Amendments and Reauthorization Act of 1986 (“CERCLA”), 42 U.S.C. 9601-9675, notice is hereby given that a proposed prospective purchaser agreement (“Purchaser Agreement”) associated with the Avtex Fibers Superfund Site (“Site”) in Front Royal, Virginia, was executed by the Environmental Protection Agency and the Department of Justice and is now subject to public comment, after which the United States may modify or withdraw its consent if comments received disclose facts or considerations which indicate that the Purchaser Agreement is inappropriate, improper, or inadequate. The Purchaser Agreement will resolve certain potential EPA claims under sections 106 and 107 of CERCLA, 42 U.S.C. 9606 and 9607, against the Industrial Development Authority of the Town of Front Royal and the County of Warren, d/b/a Economic Development Authority (“EDA”), (“Purchaser”) and the Lord Fairfax Soil and Water Conservation District, who will enforce, in perpituity, a conservation easement in relation to the Purchaser Agreement. The property subject to the Purchaser Agreement comprises the 500 ±acre manufacturing site bordering the east bank of the Shenandoah River and an additional tract of land on the west bank of the Shenandoah River opposite the manufacturing site, located in Warren County, Virginia, both within and without the boundaries of Front Royal, Virginia.

Re-development and reuse of this property includes such proposed uses as a soccer complex, a commercial and light industrial park, a nature conservancy and recreation areas.

For thirty (30) days following the date of publication of this document, the Agency will receive written comments relating to the proposed Purchaser Agreement. The Agency's response to any comments received will be available for public inspection at the U.S. Environmental Protection Agency, Region III, 1650 Arch Street, Philadelphia, PA 19103.

DATES: Comments must be submitted on or before March 17, 2000.

AVAILABILITY: The proposed Purchaser Agreement and additional background information relating to the proposed Purchaser Agreement are available for public inspection at the U.S. Environmental Protection Agency, Region III, 1650 Arch Street, Philadelphia, PA 19103. A copy of the proposed Purchaser Agreement may be obtained from Suzanne Canning, U.S. Environmental Protection Agency, Regional Docket Clerk (3RC00), 1650 Arch Street, Philadelphia, PA 19103. Comments should reference the “Avtex Fibers Superfund Site Prospective Purchaser Agreement” and “EPA Docket No. CERC-PPA-99-07,” and should be forwarded to Suzanne Canning at the above address.

FOR FURTHER INFORMATION CONTACT: Wayne R. Walters, (3RC41), Senior Assistant Regional Counsel, U.S. Environmental Protection Agency, 1650 Arch Street, Philadelphia, PA 19103, Phone: (215) 814-2699.

Dated: February 7, 2000.
Bradley M. Campbell,
Regional Administrator, Region III.

[FR Doc. 00-3671 Filed 2-15-00; 8:45 am]

BILLING CODE 6560-50-P